FEDERAL COMMUNICATIONS COMMISSION

Sunshine Act Meeting; Open Commission Meeting, Thursday, February 13, 2003

February 6, 2003.

The Federal Communications Commission will hold an Open Meeting on the subjects listed below on Thursday, February 13, 2003, which is scheduled to commence at 9:30 a.m. in Room TW-C305, at 445 12th Street, SW., Washington, DC.

Item No., Bureau, and Subject

1—Office of Engineering and Technology—Title: Revisions of Part 15 of the Commission's Rules Regarding Ultra-Wideband Transmission Systems (ET Docket No. 98-153). Summary: The Commission will consider a Memorandum Opinion and Order and Further Notice of Proposed Rulemaking addressing the fourteen petitions for reconsideration filed in response to the First Report and Order in this proceeding. The First Report and Order established the standards that permit the unlicensed operation of ultra-wideband devices.

2—Consumer and Governmental Affairs—Title: Amendment of Part 1, Subpart N of the Commission's Rules Concerning Non-Discrimination on the Basis of Disability in the Commission's Programs and Activities. Summary: The Commission will consider an Order to update and enhance its rules regarding access for persons with disabilities to Commission programs and activities, as found in Subpart N of Part 1 of the Commission's rules.

3—Wireline Competition—Title: Review of the section 251 Unbundling Obligations of Incumbent Local Exchange Carriers (CC Docket No. 01-338), Implementation of the Local Competition Provisions of the Telecommunications Act of 1996 (CC Docket No. 96-98), Deployment of Wireline Services Offering Advanced Telecommunications Capability (CC Docket No. 98-147), and Appropriate Framework for Broadband Access to the Internet over Wireline Facilities (CC Docket No. 02-33). Summary: The Commission will consider a Report and Order concerning incumbent local exchange carriers' obligations to make elements of their networks available on an unbundled basis.

Additional information concerning this meeting may be obtained from David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. Audio/Video coverage of the meeting will be broadcast live over the Internet from the FCC's Audio/Video Events Web Page at www.fcc.gov/realaudio. Audio and video tapes of this meeting can be purchased from CACI Productions, 341 Victory Drive, Herndon, VA 20170, telephone number (703) 834-1470, Ext. 19; fax number (703) 834-0111.

Federal Communications Commission
Marlene H. Dortch,
Secretary.

[FR Doc. 03-3609 Filed 2-10-03; 2:53 pm]

BILLING CODE 6712-01-P